DEPARTMENT OF JUSTICE

[OMB Number 1110-0074]

Agency Information Collection Activities; Proposed eCollection; eComments Requested; Extension, Without Change, of a Previously Approved Collection FBI Hazardous Devices School Course Application (FD-731)

AGENCY: Critical Incident Response Group, Hazardous Device School, Federal Bureau of Investigation, Department of Justice.

ACTION: 30-Day notice.

SUMMARY: The Department of Justice (DOJ), Federal Bureau of Investigation (FBI), Critical Incident Response Group (CIRG), Hazardous Devices School (HDS) will be submitting the following information collection request to the Office of Management and Budget (OMB) for review and approval in accordance with the Paperwork Reduction Act of 1995. The proposed information collection is published to obtain comments from the public and affected agencies.

DATES: Comments are encourages and will be accepted for an additional 30 day until May 26, 2021.

FOR FURTHER INFORMATION CONTACT: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Approval of a new collection.

(2) Title of the Form/Collection: Federal Bureau of Investigation Hazardous Devices School Course Application.

(3) Agency form number, if any, and the applicable component of the Department sponsoring the collection: Agency form number: FD-731.

(4) Affected public who will be asked or required to respond, as well as a brief abstract: Primary: This form is utilized by the FBI, Hazardous Devices School to collection information needed during a review process of the identification and qualification of prospective students, and to initiate a review of security clearance status prior to being granted access to law enforcement sensitive and classified facilities and information.

(5) An estimate of the total number of respondents and the amount of time estimated for an average respondent to respond/reply: It is estimated that 1000 respondents will complete each form within approximately 45 minutes.

(6) An estimate of the total public burden (in hours) associated with the collection: There are an estimated 700 total annual burden hours associated with this collection.

If additional information is required contact: Melody Braswell, Department Clearance Officer, United States Department of Justice, Justice Management Division, Policy and Planning Staff, Two Constitution Square, 145 N Street NE, Suite 3E.405B, Washington, DC 20530.

Dated: April 21, 2021.
Melody Braswell,
Department Clearance Officer, PRA, U.S. Department of Justice.

[FR Doc. 2021-08582 Filed 4-23-21; 8:45 am]

BILLING CODE 4410-02-P